SURFACE TRANSPORTATION BOARD

[Docket No. AB 303 (Sub-No. 56X)]

Wisconsin Central Ltd.—Abandonment Exemption—in Kaukauna, Outagamie County, Wis.

Wisconsin Central Ltd. (WCL) has filed a verified notice of exemption under 49 CFR part 1152 subpart F—Exempt Abandonments to abandon an approximately 0.30-mile rail line between milepost 114.0 and milepost 113.7, at Kaukauna, Outagamie County, Wis. (the Line).¹ The Line traverses U.S. Postal Service Zip Code 54130.

¹ WCL states that the Line was part of a longer rail line between milepost 114.0 and milepost 112.9 for which WCL obtained abandonment authority in 2013. See Wis. Cent. Ltd.—Aban. Exemption—in Kaukauna, Outagamie Cnty., Wis., AB 303 (Sub No. 40X) (Mar. 20, 2013). According to WCL, it sold the segment of the longer rail line between milepost 113.7 and milepost 112.9 to the City of Kaukauna (City) through the Wisconsin Department of Transportation pursuant to a notice of interim trail use or abandonment under the National Trails System Act (Trails Act), and the abandonment authority for the Line (which was not included in the sale) subsequently lapsed. WCL states that, because the City now seeks to acquire the Line pursuant to the Trails Act to connect existing trail systems, WCL once again seeks an abandonment exemption.

WCL has certified that: (1) It has handled no local traffic over the Line for at least two years; (2) there will be no effect on overhead traffic (of which none exists); (3) no formal complaint filed by a user of rail service (or by a state or local government entity acting on behalf of such user) regarding WCL's cessation of service over the Line is either pending with the Surface Transportation Board (Board) or with any U.S. District Court or has been decided in favor of complainant within the past two years; and (4) the requirements at 49 CFR 1105.7 and 1105.8 (notice of environmental and historic report), 49 CFR 1105.12 (newspaper publication), and 49 CFR 1152.50(d)(1) (notice to governmental agencies) have been met.

Any employee of WCL adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Pursuant to 49 CFR 1152.50(d)(3), an exemption will be effective 30 days after publication of the notice in the Federal Register. However, simultaneous with the notice, WCL filed a request to expedite the effective date. The Board will establish the effective date of the exemption in a separate decision addressing WCL's request.

Petitions to stay that do not involve environmental issues,² formal expressions of intent to file an offer of financial assistance (OFA) under 49 CFR 1152.27(c)(2),³ and interim trail use/rail banking requests under 49 CFR 1152.29 must be filed by October 5, 2020.⁴ Petitions to reopen or requests for public use conditions under 49 CFR 1152.28 must be filed by October 15, 2020, with the Surface Transportation Board, 395 E Street SW, Washington, DC 20423-0001.

² The Board will grant a stay if an informed decision on environmental issues (whether raised by a party or by the Board's Office of Environmental Analysis (OEA) in its independent investigation) cannot be made before the exemption's effective date. See Exemption of Out-of-Serv. Rail Lines, 5 I.C.C.2d 377 (1989). Given the request for an expedited effective date, any request for a stay should be filed as soon as possible.

³ Persons interested in submitting an OFA must first file a formal expression of intent to file an offer, indicating the type of financial assistance they wish to provide (i.e., subsidy or purchase) and demonstrating that they are preliminarily financially responsible. See 49 CFR 1152.27(c)(2)(i).

⁴ Filing fees for OFAs and trail use requests can be found at 49 CFR 1002.2(f)(25) and (27), respectively.

A copy of any petition filed with the Board should be sent to WCL's representative, Thomas J. Healey, Fletcher & Sippel LLC, 29 North Wacker Drive, Suite 800, Chicago, IL 60606.

If the verified notice contains false or misleading information, the exemption is void ab initio.

WCL has filed a combined environmental and historic report that addresses the potential effects, if any, of the abandonment on the environment and historic resources. OEA will issue a Draft Environmental Assessment (Draft EA) by September 29, 2020. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), WCL shall file a notice of consummation with the Board to signify that it has exercised the authority granted and fully abandoned the Line. If consummation has not been effected by WCL's filing of a notice of consummation by September 25, 2021, and there are no legal or regulatory barriers to consummation, the authority to abandon will automatically expire.

Board decisions and notices are available at www.stb.gov.

Decided: September 22, 2020.
By the Board, Allison C. Davis, Director, Office of Proceedings.
Eden Besera,
Clearance Clerk.

[FR Doc. 2020-21217 Filed 9-24-20; 8:45 am]

BILLING CODE 4915-01-P